DEPARTMENT OF ENERGY

[Docket No. RP99-518-044]

Federal Energy Regulatory Commission

June 2, 2003.

PG&E Gas Transmission, Northwest Corporation; Notice of Negotiated Rates

Take notice that on May 29, 2003, PG&E Gas Transmission, Northwest Corporation (GTN) tendered for filing to be part of its FERC Gas Tariff, Second Revised Volume No. 1-A, Thirteenth Revised Sheet No. 15, with an effective date of May 29, 2003.

GTN states that this filing is being filed to reflect the implementation of one new negotiated rate agreement on GTN's system in accordance with the Commission's October 28, 1999, order in Docket No. RP99-518, (PG&E Gas Transmission, Northwest Corporation, 89 FERC ¶ 61,114 (1999).

GTN further states that a copy of this filing has been served on GTN's jurisdictional customers and interested state regulatory agencies.

Any person desiring to be heard or to protest said filing should file a motion to intervene or a protest with the Federal Energy Regulatory Commission, 888 First Street, NE., Washington, DC 20426, in accordance with sections 385.214 or 385.211 of the Commission's rules and regulations. All such motions or protests must be filed in accordance with § 154.210 of the Commission's regulations. Protests will be considered by the Commission in determining the appropriate action to be taken, but will not serve to make protestants parties to the proceedings. Any person wishing to become a party must file a motion to intervene. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Comment Date: June 10, 2003.

Magalie R. Salas,
Secretary.

[FR Doc. 03-14519 Filed 6-9-03; 8:45 am]

BILLING CODE 6717-01-P